DEPARTMENT OF ENERGY

Federal Energy Regulatory Commission

[Project No. 14588-000]

Alaska Power and Telephone Company; Notice of Preliminary Permit Application Accepted for Filing and Soliciting Comments, Motions To Intervene, and Competing Applications

On February 21, 2014, the Alaska Power and Telephone Company filed an application for a preliminary permit, pursuant to section 4(f) of the Federal Power Act (FPA), proposing to study the feasibility of the Lake 3160 Water Power Project (project) to be located at an unnamed alpine lake (Lake 3160) near Evelyn Lake on the Lace River in the City and Borough of Juneau, Alaska. The project would be located within the Tongass National Forest. The sole purpose of a preliminary permit, if issued, is to grant the permit holder priority to file a license application during the permit term. A preliminary permit does not authorize the permit holder to perform any land-disturbing activities or otherwise enter upon lands or waters owned by others without the owners' express permission.

The proposed project would consist of the following: (1) The existing 451-acre Lake 3160 with 19,700 acre-feet of storage; (2) either a siphon intake directional bore or a 20-foot-high concrete dam with a spillway which would increase Lake 3160's surface area to 471 acres with 28,700 acre-feet of storage; (3) either a directional bore to the lake bottom or an above-ground 20- to 24-inch-diameter, 8,800-foot-long penstock; (4) a powerhouse containing either one or two generating units with a total installed capacity of 4,995 kilowatts (kW); (5) an open channel tailrace conveying powerhouse discharges to Evelyn Lake; (6) a 7.6-mile-long, 14.4/24.9 kilovolt (kV) (or higher) transmission line which would be built either as: (i) An overhead line; (ii) a buried line in a conduit; (iii) submarine cable; or (iv) a combination of all three to intertie with the existing line at a nearby mine on Johnson Creek; and (7) appurtenant facilities. The estimated annual generation of the project would be 40 gigawatt-hours.

Applicant Contact: Mr. Glen D. Martin, Project Manager, Alaska Power & Telephone Company, P.O. Box 3222, Port Townsend, WA 98363 phone: (360) 385-1733, x 122.

FERC Contact: Suzanne Novak; phone: (202) 502-6665.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14588-000.

More information about this project, including a copy of the application, can be viewed or printed on the “eLibrary” link of Commission's Web site at http://www.ferc.gov/docs-filing/elibrary.asp. Enter the docket number (P-14588) in the docket number field to access the document. For assistance, contact FERC Online Support.

Dated: May 14, 2014.
Kimberly D. Bose,
Secretary.

[FR Doc. 2014-11711 Filed 5-20-14; 8:45 am]

BILLING CODE 6717-01-P